DEPARTMENT OF THE INTERIOR

Bureau of Land Management

[NV-050-1610-DG]

Notice of Intent To Revise the Nellis Air Force Range Resource Plan and Prepare a New Environmental Impact Statement

AGENCY: Department of the Interior, Bureau of Land Management in cooperation with the Department of Defense, Nellis Air Force Base and the United States Fish and Wildlife Service.

ACTION: Notice of Intent. The Bureau of Land Management is proposing to revise the existing Nellis Air Force Range Resource Plan based on specific direction within Public Law 106-65, section 3014. The BLM will include an amendment to the Tonopah Resource Management Plan which will prescribe management of the lands identified for return to public land management, all in one action.

SUMMARY: New issues have surfaced which require additional analysis to determine the best use of the existing resources. New issues include: (1) The Nellis Range is located in the serious non-attainment for PM 10 and Carbon Monoxide; (2) management of the Wild Horses on the range has caused much controversy over the past 10 years; (3) approximately 30,000 acres may be returned to public land management status provided it is hazardous materials free. The Bureau is interested in other issues the public will present as part of the record.

Due to an accelerated timeline set forth by Congress and the President, for completion of this revised Nellis Range Resource Plan, October 5, 2001, the BLM will ensure the process proceeds as quickly as possible.

Cooperating Agency Status: This plan revision is being completed in full cooperation with the United States Fish and Wildlife Service and the Department of Defense. Based on other express interest by other State and Federal agencies as well as all three county's affected by this action, we anticipate additional interest in cooperating agency status. We will either wait until the Notice of Availability is sent to identify those additional cooperators or issue a separate Federal Register notice in the next 2 to 3 months.

DATES: Public scoping meeting are set for the week of May 1-5 as follows: Monday, May 1, 2000; 3-5pm at the Beatty Community Center, Beatty Nevada, 100 A Avenue South. Monday, May 1, 2000; 7-9pm at the Tonopah Convention Center, 301 Brougher Avenue, Tonopah, Nevada. Tuesday, May 2, 2000; 7-9pm at the Bob Ruud Community Center, 150 N. Highway 160, Pahrump, Nevada. Wednesday, May 3, 2000; 7-9pm, at the Amargosa Valley Community Center, 821 E. Farm Road, Amargosa, Nevada. Thursday, May 4, 2000; 7-9pm at the New Alamo High School Multi-purpose Room, 151 S. Main, Alamo Nevada. Friday, May 5, 2000; 7-9pm at the BLM Las Vegas Field Office, 4765 W. Vegas Drive, Las Vegas Nevada. Other meetings may be planned in the future if a need is expressed.

ADDRESSES: For further information contact Jeffrey G. Steinmetz, Las Vegas Field Office Environmental Protection Specialist and Team Lead for the BLM at Bureau of Land Management, Las Vegas Field Office, 4765 W. Vegas Drive, Las Vegas, Nevada 89108, telephone (702)-647-5000.

FOR FURTHER INFORMATION CONTACT: Jeff Steinmetz, RMP Team Leader, at BLM's Las Vegas Field Office listed above or telephone (702) 647-5097.

Dated: April 5, 2000.
Mark T. Morse,
Field Manager.

[FR Doc. 00-9423 Filed 4-14-00; 8:45 am]

BILLING CODE 4310-HC-P